DEPARTMENT OF ENERGY

Federal Energy Regulatory Commission

[Project No. 1354-031]

Pacific Gas and Electric; Notice of Availability of Environmental Assessment

February 26, 2004.

In accordance with the National Environmental Policy Act of 1969, as amended, and the Federal Energy Regulatory Commission's regulations (18 CFR part 380), the Commission staff have prepared an environmental assessment (EA) that analyzes the environmental impacts of allowing Pacific Gas and Electric, licensee for the Crane Valley Hydroelectric Project, to authorize the Pines Resort to use project lands and waters. Specifically, the Pines Resort, located on the north shore of Bass Lake, proposes to expand and modernize an existing marina. The EA contains staff's analysis of the potential environmental impacts of the proposal and concludes that approval of the proposed action would not constitute a major Federal action significantly affecting the quality of the human environment.

A copy of the EA is attached to a February 24, 2004, Commission Order titled “Order Approving Non-Project Use of Project Lands and Waters,” which is available for review and reproduction at the Commission's Public Reference Room, located at 888 First Street, NE., Room 2A, Washington, DC 20426. The EA may also be viewed on the Commission's Web site at http://www.ferc.gov using the “elibrary” link. Enter the docket number (prefaced by P-) and excluding the last three digits, in the docket number field to access the document. For assistance, contact FERC Online Support at FERCOnlineSupport@ferc.gov or toll-free at (866) 208-3676, or for TTY, contact (202) 502-8659.

Magalie R. Salas,
Secretary.

[FR Doc. E4-437 Filed 3-2-04; 8:45 am]

BILLING CODE 6717-01-P